ENVIRONMENTAL PROTECTION AGENCY

[EPA-HQ-OPP-2010-0887; FRL-8871-2]

Ziram, Diquat Dibromide, and Chloropicrin; Order for Amendments To Terminate Uses

AGENCY: Environmental Protection Agency (EPA).

ACTION: Notice.

SUMMARY: This notice announces EPA's order for the amendments to terminate uses, voluntarily requested by the registrants and accepted by the Agency, of products containing ziram, diquat dibromide, and chloropicrin, pursuant to section 6(f)(1) of the Federal Insecticide, Fungicide, and Rodenticide Act (FIFRA), as amended. This cancellation order follows a December 1, 2010 Federal Register Notice of Receipt of Requests from the registrants listed in Table 2 of Unit II. to voluntarily amend to terminate uses of all these product registrations. These are not the last products containing these pesticides registered for use in the United States. In the December 1, 2010 notice, EPA indicated that it would issue an order implementing the amendments to terminate uses, unless the Agency received substantive comments within the 30-day comment period that would merit its further review of these requests, or unless the registrants withdrew their requests. The Agency did not receive any comments on the notice.

DATES: The amendments are effective May 11, 2011.

FOR FURTHER INFORMATION CONTACT: A contact person, with telephone number and e-mail address, is listed in the following table. You may also reach each contact person by mail at Pesticide Re-evaluation Division, (7508P) Office of Pesticide Programs, Environmental Protection Agency, 1200 Pennsylvania Ave., NW., Washington, DC 20460-0001. For pesticide-specific information contact: The Chemical Review Manager identified in the table below for the pesticide of interest.

Active ingredient | Chemical Review Manager, telephone number, e-mail address
Chloropicrin | Andrea Mojica, (703) 308-0122, mojica.andrea@epa.gov.
Diquat dibromide | Eric Miederhoff, (703) 347-8028, miederhoff.eric@epa.gov.
Ziram | Kelly Ballard, (703) 305-8126, ballard.kelly@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult one of the persons listed under FOR FURTHER INFORMATION CONTACT.

B. How can I get copies of this document and other related information?

EPA has established a docket for this action under docket identification (ID) number EPA-HQ-OPP-2010-0887. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency taking?

This notice announces the amendments to delete uses, as requested by registrants, of products registered under section 3 of FIFRA. These registrations are listed in sequence by registration number in Table 1 of this unit.

Table 1—Ziram, Diquat Dibromide, and Chloropicrin Product Registration Amendments To Delete Uses
EPA Registration No. | Product name | Chemical | Uses to be deleted
228-675 | Nufarm Diquat SPC 2 L Herbicide | Diquat Dibromide | Sorghum and soybean.
2749-530 | Diquat Dibromide 37.3% SL AG | Diquat Dibromide | Sorghum and soybean (seed crop only).
2749-531 | Diquat Manufacturing Concentrate | Diquat Dibromide | Sorghum and soybean (seed crop only).
5785-17 | Chlor-O-Pic | Chloropicrin | Mushroom casing soil, potting soil, and small area seed beds using handheld fumigation devices.
8536-2 | Chloropicrin 100 Fumigant | Chloropicrin | Mushroom casing soil, potting soil, and small area seed beds using handheld fumigation devices.
8622-43 | Metapicrin | Chloropicrin | Mushroom casing soil, potting soil, and small area seed beds using handheld fumigation devices.
8853-4 | HD-Pic Fumigant | Chloropicrin | Mushroom casing soil, potting soil, and small area seed beds using handheld fumigation devices.
8853-6 | Pic Plus Fumigant | Chloropicrin | Mushroom casing soil, potting soil, and small area seed beds using handheld fumigation devices.
45728-12 | Ziram Granuflo Fungicide | Ziram | Blackberries.
58266-2 | Tri-Clor Fumigant | Chloropicrin | Mushroom casing soil, potting soil, and small area seed beds using handheld fumigation devices.
62531-2 | ASHTA Gold | Chloropicrin | Mushroom casing soil, potting soil, and small area seed beds using handheld fumigation devices.
66330-47 | TM-442 | Chloropicrin | Mushroom casing soil, potting soil, and small area seed beds using handheld fumigation devices.
70506-173 | Ziram 76DF Fungicide | Ziram | Blackberries.
82542-15 | Solear Diquat 2L Desiccant | Diquat Dibromide | Sorghum and soybean (seed crop only).
82633-2 | Sharda Diquat Concentrate | Diquat Dibromide | Sorghum and soybean (seed crop only).
83529-13 | Diquash Ag | Diquat Dibromide | Sorghum and soybean (seed crop only).
83979-2 | Rowrunner Ag Herbicide | Diquat Dibromide | Sorghum and soybean.
85607-1 | Reddick PIC C-100 | Chloropicrin | Mushroom casing soil, potting soil, and small area seed beds using handheld fumigation devices.

Table 2 of this unit includes the names and addresses of record for all registrants of the products in Table 1 of this unit, in sequence by EPA company number. This number corresponds to the first part of the EPA registration numbers of the products listed in Table 1.

Table 2—Registrants of Amended Products
EPA Company No. | Company name and address
228 | Nufarm Americas, Inc., 150 Harvester Drive, Suite 200, Burr Ridge, IL 60527.
2749 | Aceto Agricultural Chemicals Corporation, One Hollow Lane, Lake Success, NY 11042-1215.
5785 | Chemtura Corporation, 1801 Highway 52 West, P.O. Box 2200, West Lafayette, IN 47906.
8536 | Soil Chemicals Corporation dba Cardinal Professional Products, P.O. Box 782, 8770 Highway 25, Hollister, CA 95024-0782.
8622 | ICL-IP America, Inc., 95 MacCorkle Avenue, SW., South Charleston, WV 25303.
8853 | Hendrix and Dail, Inc., P.O. Box 648, Greenville, NC 27835-0648.
45728 | Taminco, Inc., 21320 Sweet Clover Place, Ashburn, VA 20147.
58266 | Shadow Mountain Products Corporation, 8770 Highway 25, P.O. Box 1327, Hollister, CA 95024-1327.
62531 | ASHTA Chemicals Inc., 3509 Middle Road, P.O. Box 858, Ashtabula, OH 44005-0858.
66330 | Arysta LifeScience North America, LLC, 15401 Weston Parkway, Suite 150, Cary, NC 27513.
70506 | United Phosphorus, Inc., 630 Freedom Business Center, Suite 402, King of Prussia, PA 19406.
82542 | Source Dynamics, 10039 E. Troon North Drive, Scottsdale, AZ 85262.
82633 | Sharda Worldwide Exports Pvt. Ltd., Domnic Holm, 29th Road, Bandra (West) Mumbai-400050.
83979 | Rotam North America, Inc., 1400 N.W. 107th Avenue Suite 310, Miami, FL 33172.
85607 | Reddick Fumigants of NC, LLC, 3002 W. Main Street, Williamston, NC 27892.

III. Summary of Public Comments Received and Agency Response to Comments

During the public comment period provided, EPA received no comments in response to the December 1, 2010 Federal Register notice announcing the Agency's receipt of the requests for voluntary amendments to delete uses of products listed in Table 1 of Unit II.

IV. Termination Order

Pursuant to FIFRA section 6(f), EPA hereby approves the requested amendments to terminate uses of ziram, diquat dibromide, and chloropicrin registrations identified in Table 1 of Unit II. Accordingly, the Agency hereby orders that the product registrations identified in Table 1 of Unit II are amended to terminate the affected uses. The effective date of the terminations that are the subject of this notice is May 11, 2011. Any distribution, sale, or use of existing stocks of the products identified in Table 1 of Unit II in a manner inconsistent with any of the provisions for disposition of existing stocks set forth in Unit VI. will be a violation of FIFRA.

V. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment on December 1, 2010 (75 FR 74714) (FRL-8854-3). The comment period closed on January 3, 2011.

VI. Provisions for Disposition of Existing Stocks

Existing stocks are those stocks of registered pesticide products which are currently in the United States and which were packaged, labeled, and released for shipment prior to the effective date of the action. The existing stocks provision for the products subject to this order is as follows.

The registrants of the chloropicrin products listed in Table 1 of Unit II were permitted to sell and distribute products under the previously approved labeling until December 1, 2010, or a revised date if product labels with the 2010 changes (i.e., Phase I) had not been accepted in all states. The labels were not accepted in all states until after December 1, 2010 and so registrants were permitted by EPA to sell and distribute products under previously approved labeling until December 31, 2010. After December 31, 2010, these registrants are prohibited from selling or distributing the products under previously approved labels that include the deleted uses identified in Table 1 of Unit II, except for export consistent with FIFRA section 17 or for proper disposal.

For the ziram and diquat dibromide products listed in Table 1 of Unit II, once EPA has approved product labels reflecting the requested amendments to delete uses, registrants will be permitted to sell or distribute products under the previously approved labeling for a period of 12 months after the date of Federal Register publication of the order terminating certain uses, unless other restrictions have been imposed. Thereafter, registrants will be prohibited from selling or distributing the products whose labels include the deleted uses identified in Table 1 of Unit II, except for export consistent with FIFRA section 17 or for proper disposal.

Persons other than the registrant may sell, distribute, or use existing stocks of products whose labels include the deleted uses until supplies are exhausted, provided that such sale, distribution, or use is consistent with the terms of the previously approved labeling on, or that accompanied, the deleted uses.

List of Subjects

Environmental protection, Pesticides and pests.

Dated: May 2, 2011.
Richard P. Keigwin,
Director, Pesticide Re-evaluation Division, Office of Pesticide Programs.

[FR Doc. 2011-11206 Filed 5-10-11; 8:45 am]

BILLING CODE 6560-50-P